ENVIRONMENTAL PROTECTION AGENCY

[EPA-HQ-OW-2015-0056; FRL-9934-08-OW]

National Advisory Council for Environmental Policy and Technology: Assumable Waters Subcommittee; Notice of Public Meetings

AGENCY: Environmental Protection Agency (EPA).

ACTION: Notice of Federal Advisory Subcommittee Meetings.

SUMMARY: Consistent with the Federal Advisory Committee Act, Public Law 92-463, EPA is giving notice of two upcoming public meetings of the Assumable Waters Subcommittee convened under the National Advisory Council for Environmental Policy and Technology (NACEPT). The Assumable Waters Subcommittee will provide advice and recommendations as to how the EPA can best clarify assumable waters for dredge and fill permit programs pursuant to Clean Water Act section 404(g)(1). The EPA is undertaking this effort to support states and tribes that wish to assume the program. Similar to the parent NACEPT, the subcommittee represents a diversity of interests from academia, industry, non-governmental organizations, and local, State, and tribal governments. Meeting agendas and materials will be posted at www2.epa.gov/cwa-404/assumable-waters-sub-committee.

DATES: The Assumable Waters Subcommittee will hold two-day public meetings on:

• October 6-7, 2015, from 9:00 a.m. to 5:00 p.m., in the William Jefferson Clinton Building in Washington, DC.

• December 1-2, 2015, from 9:00 a.m. to 5:00 p.m., in the One Potomac Yard Building in Arlington, VA.

ADDRESSES: • William Jefferson Clinton Building, Room B305 North, 1200 Pennsylvania Ave. NW., Washington, DC 20460.

• One Potomac Yard, Ground Floor, 2777 Crystal Dr. Arlington, VA 22202.

FOR FURTHER INFORMATION CONTACT: Laura Bachle, Designated Federal Officer, via Email at: Assumable, by phone: (202) 566-2468, via postal service at: U.S. EPA, Office of Wetlands Oceans and Watersheds, 1200 Pennsylvania Avenue NW., Washington, DC 20460.

SUPPLEMENTARY INFORMATION: Requests to make oral comments or to provide written comments to the Assumable Waters Subcommittee should be sent to Laura Bachle via Email at: assumablewaters@epa.gov by September 25, 2015, for the October meeting and by November 16, 2015, for the December meeting. The meetings are open to the public, with limited seating available on a first-come, first-served basis. Members of the public wishing to attend should contact Laura Bachle via Email at: assumablewaters@epa.gov or by phone at: (202) 566-2468 by September 25, 2015, for the October meeting and by November 16, 2015, for the December meeting. Public comments will heard from 1:30 p.m. to 2:30 p.m. on October 7, 2015, and December 2, 2015.

Meeting Access: Information regarding accessibility and/or accommodations for individuals with disabilities should be directed to Laura Bachle at the email address or phone number listed above. To ensure adequate time for processing, please make requests for accommodations at least 10 days prior to the meeting.

Dated: September 9, 2015.
Benita Best-Wong,
Director, Office of Wetlands, Oceans, and Watersheds.

[FR Doc. 2015-23143 Filed 9-14-15; 8:45 am]

BILLING CODE 6560-50-P